ENVIRONMENTAL PROTECTION AGENCY

[ER-FRL-6615-1]

Environmental Impact Statements; Notice of Availability

Responsible Agency: Office of Federal Activities, General Information (202) 564-7167 www.epa.gov/oeca/ofa.

Weekly Receipt of Environmental Impact Statements Filed January 22, 2001 Through January 26, 2001, Pursuant to 40 CFR 1506.9.

EIS No. 010027, FINAL EIS, FRC, AL, FL, MS, Gulfstream Natural Gas System Project, Construction and Operation, To Provide Natural Gas Transportation Service, AL, MS and FL, Due: March 05, 2001, Contact: Paul McKee (202) 208-1611.

EIS No. 010028, DRAFT EIS, FHW, IL, Illinois Route 3 (FAP-14) Relocation, Improved Transportation from Sauget to Venice, Funding, NPDES Permit and COE Section 404 Permit, Madison and St. Clair Counties, IL, Due: March 19, 2001, Contact: Ronald C. Marshall (217) 492-4640.

Amended Notices:

EIS No. 000447, DRAFT EIS, HUD, NY, City of Yonkers Construction of a 524 Units of Mixed-Income Housing at 1105-11354 Warburton Avenue, River Club Apartment Complex, City of Yonkers, Westchester County, NY, February 05, 2001, Published FR 12-22-00—This draft statement was inadvertently filed with EPA on 12-11-00. The correct NOA was published in the 12-01-00 FR, CEQ #000410, Filed 11/22/01, the correct date comments are due back to the preparing agency is 01/30/01.

Dated: January 30, 2001.
Joseph C. Montgomery,
Director, NEPA Compliance Division, Office of Federal Activities.

[FR Doc. 01-2880 Filed 2-1-01; 8:45 am]

BILLING CODE 6560-50-U